DEPARTMENT OF LABOR

Employment and Training Administration

[TA-W-62,592]

J.H.L. Fashion Inc., New York, NY; Notice of Termination of Investigation

Pursuant to section 221 of the Trade Act of 1974, as amended, an investigation was initiated on December 20, 2007 in response to a petition filed by workers of J.H.L. Fashion Inc., New York, New York.

The petition does not contain three valid worker signatures; therefore, the petition itself is invalid. Consequently, the investigation has been terminated.

Signed at Washington, DC, this 31st day of December 2007.
Richard Church,
Certifying Officer, Division of Trade Adjustment Assistance.

[FR Doc. E8-256 Filed 1-9-08; 8:45 am]

BILLING CODE 4510-FN-P